ENVIRONMENTAL PROTECTION AGENCY

40 CFR Parts 141 and 142

[FRL-6715-4]

Revisions to the Interim Enhanced Surface Water Treatment Rule (IESWTR), the Stage 1 Disinfectants and Disinfection Byproducts Rule (Stage 1 DBPR) and Revisions to State Primacy Requirements to Implement the Safe Drinking Water Act (SDWA) Amendments.

AGENCY: Environmental Protection Agency (EPA).

ACTION: Direct final rule; withdrawal.

SUMMARY: Because we received adverse comments, EPA is withdrawing the direct final rule regarding the Interim Enhanced Surface Water Treatment Rule, the Stage 1 Disinfectant and Disinfection Byproducts Rule, and the Primacy Rule that published on April 14, 2000 (65 FR 20304).

In the direct final rule, we stated that if we received adverse comments by May 15, 2000, we would publish a timely withdrawal in the Federal Register. EPA subsequently received adverse comments. We will address those comments in a final rule based upon the proposed rule also published on April 14, 2000 (65 FR 20314).

Because of the degree of public interest in the rule, we are reopening the comment period on the proposed rule. For additional information, see the document that reopens the comment period, which is published in the “Proposed Rules” section of this issue of the Federal Register.

DATES: The direct final rule amending 40 CFR parts 141 and 142, published on April 14, 2000 (65 FR 20304), is withdrawn as of June 13, 2000.

FOR FURTHER INFORMATION CONTACT: Jennifer Melch, Implementation and Assistance Division, Office of Ground Water and Drinking Water (MC-4606), U.S. Environmental Protection Agency, 401 M Street, SW., Washington, DC 20460, (202) 260-7035. Information may also be obtained from the EPA Safe Drinking Water Hotline. Callers within the United States may reach the Hotline at (800) 426-4791. The Hotline is open Monday through Friday, excluding Federal holidays, from 9 a.m. to 5:30 p.m. EST.

Dated: June 8, 2000.
J. Charles Fox,
Assistant Administrator, Office of Water.

[FR Doc. 00-14886 Filed 6-12-00; 8:45 am]

BILLING CODE 6560-50-P